DEPARTMENT OF LABOR

Office of the Secretary

[Secretary's Order 18-2006]

Delegation of Authority and Assignment of Responsibilities for International Affairs

1. Purpose. To delegate authority and assign responsibilities to the Deputy Undersecretary for International Affairs.

2. Authority and Directives Affected. This Order is issued pursuant to 5 U.S.C. 301; 5 U.S.C. 551 et seq.; and Reorganization Plan No. 6 of 1950 (5 U.S.C. Appendix 1); additional authorities are listed in Paragraph 4 of this Order. This Order supersedes Secretary's Order 01-95.

3. Background. This Order delegates authority and assigns responsibilities to the Deputy Undersecretary for International Affairs for carrying out international responsibilities of the Secretary of Labor. The Order delegates authority and assigns responsibilities under statutes, regulations, executive orders, interagency memoranda and agreements. This Order is being issued in order to delegate additional responsibilities granted to the Secretary of Labor since issuance of Secretary's Order 01-95.

4. Delegation of Authority and Assignment of Responsibilities to the Deputy Undersecretary for International Affairs.

A. The Deputy Undersecretary for International Affairs is delegated authority for carrying out responsibilities vested in the Secretary of Labor for international activities except for those functions specifically reserved to the Secretary by statute or Executive Order. The Deputy Undersecretary for International Affairs carries out the Secretary's international responsibilities as provided for in this Order through the Bureau of International Labor Affairs (ILAB) and various Department of Labor agencies. In exercising these responsibilities, the Deputy Undersecretary shall provide oversight and serve as the coordinator of the Department's international activities and will consult with affected Departmental agencies and other U.S. Government agencies as appropriate. The authority delegated and responsibilities assigned to the Deputy Undersecretary for International Affairs cover the following functions:

(1) Supervising ILAB, and providing coordination, oversight, and foreign policy guidance for the international programs and activities of the other agencies of the Department of Labor.

(2) Developing Departmental policy and programs relating to international labor activities, and serving as the coordinator for all of the Department's international activities involving other U.S. Government agencies, intergovernmental organizations, and nongovernmental organizations.

(3) Coordinating all Department representations to international meetings and maintaining appropriate records of these meetings.

(4) Obtaining necessary White House and Department of State clearances, and approving and monitoring all foreign travel by Department employees, excluding the Office of the Inspector General.

(5) Coordinating relations between the Secretary of Labor and representative organizations of workers and employers on all international issues and between the Secretary of Labor and international or foreign trade union and employer institutions.

(6) Under the Trade Expansion Act of 1962, the Trade Act of 1974, the Trade Agreements Act of 1979, the Omnibus Trade and Competitiveness Act of 1988, the North American Free Trade Agreement Implementation Act of 1993, the Trade Act of 2000, and the Trade Act of 2002; Executive Orders 11846, 40 FR 14291 (1975), as amended, reprinted in 19 U.S.C. 2111 note, 12188, 45 FR 989 (1980), as amended, reprinted in 19 U.S.C. 2171 note, and 13277, 67 FR 70305 (2002), as amended, reprinted in 19 U.S.C. 3801; and Reorganization Plan No. 3 of 1979, 44 FR 69273 (1979), as amended, reprinted in 19 U.S.C. 2171 note:

a. Participating in the negotiation of, advising the Secretary on, and providing information sought from the Department concerning prospective trade agreements (Section 132 of the Trade Act of 1974, as codified at 19 U.S.C. 2152 and Executive Order 12188);

b. Advising the Secretary on policy issues related to the administration of the Trade Agreements Program (Executive Order 11846);

c. Organizing, jointly with the Office of the U.S. Trade Representative, and administering the Labor Advisory Committee for Trade Negotiations and Trade Policy, in order that representatives of U.S. labor may provide advice on matters relating to the negotiation and operation of trade agreements, and on the development, implementation, and administration of U.S. trade policy (§ 135 of the Trade Act of 1974, as codified at 19 U.S.C. 2155(c), and Executive Order 11846);

d. Reviewing and reporting to Congress on the extent to which beneficiary countries under the Generalized System of Preferences (GSP) implement their international commitments to eliminate the worst forms of child labor (section 412 of the Trade Act of 2000, as codified at 19 U.S.C. 2464);

e. Reviewing and reporting to Congress on the impact of future free trade agreements on U.S. employment, including labor markets, and making those findings available to the public (section 2102 of the Trade Act of 2002, as codified at 19 U.S.C. 3802 and Executive Order 13277);

f. Consulting with any country seeking a trade agreement with the United States concerning that country's labor laws and providing technical assistance to that country if needed, in consultation with the Secretary of State (section 2102 of the Trade Act of 2002, as codified at 19 U.S.C. 3802 and Executive Order 13277);

g. Preparing and submitting to Congress, in consultation with the Secretary of State and the U.S. Trade Representative, a meaningful labor rights report of the country or countries with respect to which the President is negotiating a free trade agreement (section 2102 of the Trade Act of 2002, as codified at 19 U.S.C. 3802 and Executive Order 13277);

h. Preparing and submitting to Congress, in consultation with the Secretary of State and the U.S. Trade Representative, a report with respect to any trade agreement that the President seeks to implement under trade authorities procedures, describing the extent to which a country or countries that are parties to the agreement, have in effect laws governing exploitative child labor (section 2102 of the Trade Act of 2002, as codified at 19 U.S.C. 3802 and Executive Order 13277);

i. Consulting with the Department of Homeland Security and the Department of State concerning regulations governing the admission of non-immigrant professionals under the North American Free Trade Agreement (section 341 of the North American Free Trade Agreement Implementation Act, as codified at 8 U.S.C. 1184);

j. Serving as the Secretary's designee on the Interagency Trade Data Advisory Committee (section 5402 of the Omnibus Trade and Competitiveness Act of 1988, as codified at 15 U.S.C. 4902);

k. Assisting in interagency administration of GSP (Executive Order 11846);

l. Assisting in matters pertaining to the Secretary's membership on the interagency Trade Policy Committee and the Trade Negotiating Committee (section 242 of the Trade Expansion Act of 1962, as codified at 19 U.S.C. 1872(a)(3), and Executive Orders 11846 and 12188);

m. Providing information and advice sought from the Department and consulting with the Secretary of Commerce in investigations to determine the effects on national security of imports of articles (section 232 of the Trade Expansion Act of 1962, as codified at 19 U.S.C. 1862); and

n. Participating in appropriate consultations between the Secretary and the U.S. Trade Representative concerning enforcement of U.S. rights under trade agreements and responses to certain foreign trade practices (section 301 of the Trade Act of 1974, as codified at 19 U.S.C. 2411 (c)(2)(C)).

(7) Preparing and publishing in the Federal Register a list of products, identified by their country of origin, which the Departments of Labor, State, and Treasury have a reasonable basis to believe might have been mined, produced, or manufactured by forced or indentured child labor (Executive Order 13126, 64 FR 32383 (1999), reprinted in 41 U.S.C. 35 note).

(8) Participating in formulating international economic, trade, investment, and monetary policy in connection with the Secretary's membership on the National Economic Council (Executive Order 12835, 58 FR 6189 (1993), reprinted in 15 U.S.C. 1023 note).

(9) Serving as the Secretary's representative on the Tourism Policy Council when the Assistant Secretary for Policy is unable participate. (section 301 of the International Travel Act of 1961, as codified at 22 U.S.C. 2124).

(10) Assisting the Secretary of Homeland Security in the preparation of immigration reports, including the Triennial Comprehensive Report on Immigration (8 U.S.C. 1364), the Reports on Unauthorized Alien Employment (8 U.S.C. 1324a note), and the Reports on Legalization Program (8 U.S.C. 1255a note) under the Immigration Technical Corrections Act of 1991 and the Immigration Reform and Control Act of 1986 (8 U.S.C. 1101 et seq.) (Executive Order 12789, 57 FR 5225 (1992), reprinted in 8 U.S.C. 1364 note).

(11) Consulting with the Department of Homeland Security and the Department of State concerning the admission of non-immigrant professionals under the U.S.-Chile Free Trade Agreement, the U.S.-Singapore Free Trade Agreement, and the General Agreement on Trade in Services (GATS).

(12) Assisting in the coordination of information on immigration and migration policy within the Department and coordinating the Department's participation in international forums on discussions of migration and immigration.

(13) Participating in the interagency administration of the GSP (19 U.S.C. 2461 et seq.), the Caribbean Basin Economic Recovery Act of 1983 (CBERA) (19 U.S.C 2701 et seq.), the Andean Trade Preference Act (ATPA) (19 U.S.C. 3201 et seq.), the Overseas Private Investment Corporation (OPIC) (22 U.S.C. 2191 et seq.), and the African Growth and Opportunity Act (19 U.S.C. 3701 et seq.), including:

a. Assisting in providing interagency information on the extent to which trade preference beneficiary countries recognize and enforce internationally recognized worker rights;

b. Conducting a continuing review and analysis on the impact that the implementation of the ATPA has with respect to U.S. labor, and preparing annual reports to Congress on such review and analysis; and

c. Assisting the Department's representative on the Board of OPIC.

(14) Coordinating the Secretary's participation on the Trade Promotion Coordinating Committee (TPCC) and representing the Department on TPCC working groups under section 201 of the Export Enhancement Act of 1992, as codified at 15 U.S.C. 4727, and Executive Order 12870, 58 FR 51753 (1993), reprinted in 15 U.S.C. 4727 note.

(15) Under the North American Agreement on Labor Cooperation and the labor provisions of free trade agreements to which the United States is or may become a party, including implementing legislation thereof:

a. Coordinating and providing support for the Secretary's membership on the Council governing the Commission for Labor Cooperation and its activities, including those related to cooperative consultations and evaluations and dispute settlement;

b. Administering and managing the responsibilities of the Office of Trade and Labor Affairs;

c. Coordinating multinational labor cooperation activities;

d. Participating in meetings, working groups, task forces, and other multinational bodies; and

e. Assisting in the preparation of reports.

(16) Serving as the Secretary's liaison with the members of the Trade Policy Committee.

(17) Carrying out activities under section 309 of the Defense Production Act, as amended, as codified at 50 App. U.S.C. 2099, and Executive Order 10480, 18 FR 4939 (1953), including assisting in the preparation of the annual report on offsets in military export sales.

(18) Representing the Secretary in the interagency team established under section 7 of the Defense Production Act Reauthorization of 2003, as codified at 50 App. U.S.C. 2099 note.

(19) Carrying out activities under section 204 of the Agricultural Act of 1956, as amended, as codified at 7 U.S.C. 1854, including representing the Department on the Committee for the Implementation of Textile Agreements (Executive Order 11651, 37 FR 4699 (1972), as amended, reprinted in 7 U.S.C. 1854 note).

(20) Under the Foreign Service Act of 1980, as amended, 22 U.S.C. 3901 et seq.:

a. Serving as the Department's representative on the Board of the Foreign Service (22 U.S.C. § 3930 and Executive Order 12293, 46 FR 13969 (1981), as amended, reprinted in 22 U.S.C. 3901 note);

b. Directing the Foreign Service functions of the Department;

c. Participating in formulating management policies related to the administration and personnel management of the Foreign Service of the United States; and

d. Collaborating with the Department of State in the management of the U.S. Labor Attaché Program.

(21) Providing international technical assistance, direct cultural exchange activities, and other services and information as authorized by Congress in ILAB appropriations language and through relationships with the Department of State, the U.S. Agency for International Development, the U.S. Information Agency, and other organizations under the United States Information and Educational Exchange Act of 1948, as amended, 22 U.S.C. 1431 et seq.; the Foreign Assistance Act of 1961, as amended, 22 U.S.C. 2151 et seq.; the Mutual Educational and Cultural Exchange Act of 1961, 22 U.S.C. 2451 et seq.; the March 19, 1965, General Agreement between the Department of Labor and the U.S. Agency for International Development; and the Secretary's Memorandum of February 10, 1978, on International Technical Assistance;

(22) Administering international technical assistance grants, including child labor grants, as authorized in paragraph 4.A(21) above.

(23) Participating in development assistance policy formulation by representing the Department on the Development Coordination Committee (22 U.S.C. 2399c and Executive Order 12163, 44 FR 56673 (1979), as amended, reprinted in 22 U.S.C. 2381 note).

(24) As required by the People's Republic of China Trade Relations Act, as codified at 22 U.S.C. 6901 et seq.

a. Providing support to the Department's representative on the Congressional-Executive Commission on the People's Republic of China (22 U.S.C. 6913);

b. Establishing a program to conduct rule of law training and technical assistance related to the protection of internationally recognized worker rights in the People's Republic of China (22 U.S.C. 6981).

(25) As required by Joint Resolution 131 of June 1934, as codified at 22 U.S.C. 271, Executive Order 12216, 45 FR 41619 (1980) and Executive Order 13385, 70 FR 57989 (2005), as amended, reprinted in 22 U.S.C. 271 note:

a. Providing advice and staff work required by the Secretary as Chairman of the President's Committee on the International Labor Organization (ILO);

b. Providing for U.S. Government representation and development of substantive policies for U.S. participation in the ILO.

(26) Coordinating and directing participation of the Department in activities of the United Nations and other international organizations.

(27) Providing for U.S. government representation and developing substantive positions for U.S. participation in the Organization for Economic Cooperation and Development's Employment, Labor and Social Affairs Committee and its subsidiary bodies.

(28) Participating in the Department of Labor-European Union Working Group on Employment and Labor-related issues under the Memorandum of Understanding signed by the Secretary and the European Union Commissioner for Social Affairs on May 2, 1996.

(29) Supporting the Secretary's participation in the President's Interagency Task Force to Monitor and Combat Trafficking in Persons and participating, as appropriate, as the Secretary's representative at the Senior Policy Operating Group (§ 105 of the Trafficking Victims Protection Act of 2000, as amended, and codified at 22 U.S.C. 7103 and Executive Order 13257, 67 FR 7259 (2002), reprinted in 22 U.S.C. 7103).

(30) As directed by the Secretary, carrying out such other responsibilities that may be assigned from time-to-time to the Secretary or the Department under other Federal acts, executive orders, interagency memoranda, or otherwise, which are similar to those listed under paragraphs (1) through (29) of this section.

B. Department of Labor Agency Heads are responsible for providing technical resources and staff to carry out the Department's international program objectives, including participation in intra and interagency committees, overseas diagnostic and technical missions, and international conferences and meetings.

C. The Solicitor of Labor has responsibility for providing legal advice and assistance to all officers of the Department relating to international affairs and functions described in section 4 of this Order.

5. Redelegation of Authority. The authority delegated and responsibilities assigned to the Deputy Undersecretary for International Affairs by this Order may be further redelegated.

6. Effective Date. This Order is effective immediately.

Dated: December 19, 2006.
Elaine L. Chao,
Secretary of Labor.

[FR Doc. 06-9855 Filed 12-22-06; 8:45 am]

BILLING CODE 4510-23-P